DEPARTMENT OF JUSTICE

[AAG/A Order No. 014-2005]

Privacy Act of 1974; System of Records

AGENCY: Department of Justice, Tax Division.

ACTION: Proposed modification.

SUMMARY: Pursuant to the Privacy Act of 1974 (5 U.S.C. 552a), the Department of Justice (DOJ), Tax Division, proposes to modify the following systems of records, “Tax Division Central Classification Cards, Index Docket Cards, and Associated Records—Criminal Tax Cases, Justice/TAX-001,” previously published in full on February 20, 1998, (63 FR 8659) and amended on March 29, 2001 (66 FR 17200); “Tax Division Central Classification Cards, Index Docket Cards, and Associated Records—Civil Tax Cases, Justice/TAX-002,” previously published in full on February 20, 1998, (63 FR 8659) and amended on March 29, 2001 (66 FR 17200) ; “Files of Applications for Attorney with the Tax Division, Justice/TAX-003,” previously published on September 30, 1977, (42 FR 53390); and to eliminate the system of records, “Tax Division Special Projects File, Justice/TAX-005,” previously published on September 30, 1977 (42 FR 53391).

Specifically, the proposed Justice/TAX-001 modifications are intended to change the system name; to disclose additional details as to what data is kept in paper-based files and in electronic-based files; to provide additional details as to how access to confidential taxpayer-related information and tax enforcement-related information is managed; to expand the categories of routine uses; to clarify the policies and practices through which the Justice/TAX-001 records are stored and retrieved; and to reflect the adoption of an electronic timekeeping function for Tax Division staff.

The proposed Justice/TAX-002 modifications are intended to change the system name; to disclose additional details as to what data is kept in paper-based files and in electronic-based files; to provide additional details as to how access to confidential taxpayer-related information and tax enforcement-related information is managed; to expand the categories of routine uses; and to reflect the adoption of an electronic timekeeping function for Tax Division staff.

The proposed Justice/TAX-003 modifications are intended to change the system name, to include non-attorney applications; to disclose additional details as to what type of applicant information is maintained; and to show how access to applicant information is managed. Exemptions from the Privacy Act are claimed for this system of records and a separate Proposed Rule is included for publication in the Federal Register.

The proposed deletion of Justice/TAX-005 is intended to eliminate a redundancy: many elements of Justice/TAX-005 system descriptions and the basis for its descriptions—criminal tax enforcement—are shared by Justice/TAX-001. Accordingly, the Tax Division believes it is appropriate to add the “Special Projects” to the Justice/TAX-001 system name, to incorporate the relevant elements of Justice/TAX-005 into Justice/TAX-001, and to delete Justice/TAX-005 on the effective date of the revised system notice for Justice/TAX-001.

Title 5 U.S.C. 552a(e)(4) and (11) provides that the public must be given thirty days in which to comment on proposed new routine use disclosures and other changes as noted above. The Office of Management and Budget (OMB), which has oversight responsibilities under the Act, requires forty days to conclude its review of proposed changes to the current Tax Division Systems of Records embodied in Justice/TAX-001, Justice/TAX-002, and Justice/TAX-003.

DATES: You may submit any comments by December 27, 2005. If no comments are received, the proposal will be implemented without further notice in the Federal Register. The public, OMB, and the Congress are invited to send written comments to Mary Cahill, Management Analyst, Justice Management Division, Management and Planning Staff, Room 1400, National Place Building, 1331 Pennsylvania Ave., NW., Washington DC 20530.

FOR FURTHER INFORMATION CONTACT: Mary Cahill, (202) 307-1823.

SUPPLEMENTARY INFORMATION: None.

In accordance with 5 U.S.C. 552a, the DOJ has provided a report to the OMB and the Congress on the modifications to the notices for Justice/TAX-001, 002, and 003 systems of records, the deletion of Justice/TAX-005, and the Proposed Rule.

Dated: November 7, 2005.
Paul R. Corts,
Assistant Attorney General for Administration.

Department of Justice, Tax Division

JUSTICE/TAX-001

SYSTEM NAME:

Criminal Tax Case Files, Special Project Files, Docket Cards, and Associated Records.

SECURITY CLASSIFICATION:

Not classified.

SYSTEM LOCATION:

U.S. Department of Justice, Tax Division, 950 Pennsylvania Avenue, NW., Washington, DC 20530.

CATEGORIES OF INDIVIDUALS COVERED BY THE SYSTEM:

Persons referred to in potential or actual criminal tax cases or investigations and related matters of concern to the Tax Division under the Internal Revenue laws and related statutes.

CATEGORIES OF RECORDS IN THE SYSTEM:

The system consists of an index, by individual name, of all criminal tax cases and related matters assigned, referred, or of interest to the Tax Division. The records in this system include case files, court records, tax returns, tax return information and documents which contain tax return information, inter-agency correspondence, intra-agency memoranda, indictments, information, search warrants, search warrant affidavits, wiretap authorizations, immunity requests, grand jury information, criminal enforcement and civil investigatory information and reports, docket cards, and associated records. For pre-1977 cases or related matters, summary information—names of principals or related parties, case file or management numbers, case type, case weight, attorney assigned, court numbers, defense counsel and associated information—is maintained on docket cards. For cases 1977 onwards, information is maintained in an automated case management system. This automated system also permits Tax Division personnel to record information about the case on a comment field. A timekeeping function for attorneys, paralegals, and other Division employees involved in litigation is also part of the automated case management system. Records are maintained for the purpose of prosecuting (including investigations leading to prosecutions) or otherwise resolving criminal cases or matters under the jurisdiction of the Tax Division.

AUTHORITY FOR MAINTENANCE OF THE SYSTEM:

This system is established and maintained pursuant to 5 U.S.C. 301, 44 U.S.C. 3101, and 28 CFR 0.70 and 0.71.

PURPOSES:

Information is maintained in docket cards and in electronic format on each Tax Division (Division) criminal case and related matter to identify and assign mail to the proper office within the Division and the attorneys therein assigned to the case; to relate incoming material to an existing case; to establish a file and case management numbers; and to provide a central index of cases within the Division and to facilitate the flow of legal work in the Division. The Division's automated case management system enhances these uses and enables data management specialists, managers, and Division personnel to locate information about the status of pending or terminated criminal matters and litigation; to identify assigned staff; to track the status of litigation; to prepare reports including budget requests; and to track the number of hours Division legal personnel worked on various matters.

ROUTINE USES OF RECORDS MAINTAINED IN THE SYSTEM, INCLUDING CATEGORIES OF USERS AND THE PURPOSES OF SUCH USES:

Tax returns and return information may be disclosed only as provided in 26 U.S.C. 6103. Grand jury information may be disclosed only as provided by Rule 6(e) of the Federal Rules of Criminal Procedure.

Other records relating to a case or matter maintained in this system of records may be disseminated as a routine use, as follows:

(1) Where a record, either on its face or in conjunction with other information, indicates a violation or potential violation of law—criminal, civil, or regulatory in nature—the relevant records may be referred to the appropriate federal, state, local, foreign, or tribal, law enforcement authority or other appropriate agency charged with the responsibility of investigating or prosecuting such a violation or enforcing or implementing such law.

(2) In an appropriate proceeding before a court, or administrative or adjudicative body, when the Department of Justice determines that the records are arguably relevant to the proceeding; or in an appropriate proceeding before an administrative or adjudicative body when the adjudicator determines the records to be relevant to the proceeding.

(3) To an actual or potential party to litigation or the party's authorized representative for the purpose of negotiation or discussion of such matters as settlement, plea bargaining, or in informal discovery proceedings.

(4) To appropriate officials and employees of a federal agency or entity which requires information relevant to a decision concerning the hiring, appointment, or retention of an employee; the issuance, renewal, suspension, or revocation of a security clearance; the execution of a security or suitability investigation; the letting of a contract, or the issuance of a grant or benefit.

(5) To federal, state, local, tribal, foreign, or international licensing agencies or associations which require information concerning the suitability or eligibility of an individual for a license or permit.

(6) To the National Archives and Records Administration (NARA) for purposes of records management inspections conducted under the authority of 44 U.S.C. 2904 and 2906.

(7) To the news media and the public pursuant to 28 CFR 50.2 unless it is determined that the release of the specific information in the context of a particular case would constitute an unwarranted invasion of personal privacy.

(8) To a Member of Congress or staff acting upon the Member's behalf when the Member or staff requests the information on behalf of, and at the request of, the individual who is the subject of the record.

(9) To contractors, grantees, experts, consultants, students, and others performing or working on a contract, service, grant, cooperative agreement, or other assignment for the Federal Government, when necessary to accomplish an agency function related to this system of records.

(10) The Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(11) Information relating to health care fraud may be disclosed to private health plans, or associations of private health plans, and health insurers, or associations of health insurers, for the following purposes: to promote the coordination of efforts to prevent, detect, investigate, and prosecute health care fraud; to assist efforts by victims of health care fraud to obtain restitution; to enable private health plans to participate in local, regional, and national health care fraud task force activities; and to assist tribunals having jurisdiction over claims against private health plans.

(12) In the course of investigating the potential or actual violation of any law whether civil, criminal, or regulatory in nature, or during the course of a trial or hearing or the preparation for a trial or hearing for such violation, a record may be disseminated to a federal, state, local or foreign agency, or to an individual or organization, if there is reason to believe that such agency, individual, or organization possesses information relating to the investigation, trial, or hearing and the dissemination is reasonably necessary to elicit such information or to obtain the cooperation of a witness or an informant.

(13) To the referring agency to notify such agency of the status of the case or matter or of any decision or determination that has been made.

(14) In any health care-related civil or criminal case, investigation, or matter, information indicating patient harm, neglect, or abuse, or poor or inadequate quality of care, at a health care facility or by a health care provider, may be disclosed as a routine use to any federal, state, local, tribal, foreign, joint, international or private entity that is responsible for regulating, licensing, registering, or accrediting any health care provider or health care facility, or enforcing any health care-related laws or regulations. Further, information indicating an ongoing problem by a health care provider or at a health care facility may be disclosed to the appropriate health plan. Additionally, unless otherwise prohibited by applicable law, information indicating patient harm, neglect, abuse or poor or inadequate quality of care may be disclosed to the affected patient or the patient's representative or guardian at the discretion of and in the manner determined by the agency in possession of the information.

(15) To representatives of the Internal Revenue Service who are conducting tax records safeguard reviews pursuant to 26 U.S.C. 6103(p)(4).

(16) To the United States Department of State, to the extent necessary to assist in apprehending and/or returning a fugitive to a jurisdiction which seeks the fugitive's return.

DISCLOSURE TO CONSUMER REPORTING AGENCIES:

Only as stated in the above routine uses.

POLICIES AND PRACTICES FOR STORING, RETRIEVING, ACCESSING, RETAINING, AND DISPOSING OF RECORDS IN THE SYSTEM:

STORAGE:

Unless otherwise noted herein, all information is recorded on paper material and on docket cards. Paper materials are stored within file jackets and metal file cabinets; docket cards, within boxes or card drawers. Summary information, as described above, is maintained in electronic format and stored on data processing-type storage medium or on magnetic tape.

RETRIEVABILITY:

Information is retrieved primarily by name of person, case or file numbers, attorney number, or court district.

SAFEGUARDS:

Information is safeguarded in accordance with 26 U.S.C. 6103(p) and the Tax Division is subject to periodic inspections by the Internal Revenue Service to ensure that adequate safeguards which satisfy the requirements of that Section are in place. Records are also safeguarded in accordance with Department of Justice rules and procedures. Buildings in which the records are located are under security guard, and access to premises is by official identification. The various sections in the Division have locked entry doors which may only be entered with an encrypted card key. Records are stored in spaces and filing cabinets which are locked outside normal business hours. Training is provided for new Division personnel regarding the need for confidentiality of records, particularly tax returns and return information. A password is required to access the automated case management system and passwords are changed every 90 days.

RETENTION AND DISPOSAL:

Tax records not retained are returned to the Internal Revenue Service. Records in closed files are sent to the Federal Records Center where they are destroyed after fifteen (15) years unless they are determined to have historical significance under the NARA criteria. Records having historical significance are retained permanently. Summary information in electronic format is retained permanently. Closed records designated permanent are retired at the Records Center, where they will remain until the statutory access restrictions of 26 U.S.C. 6103 are resolved.

SYSTEM MANAGER(S) AND ADDRESS:

Assistant Attorney General; Tax Division; U.S. Department of Justice; 950 Pennsylvania Avenue, NW., Washington, DC 20530.

NOTIFICATION PROCEDURE:

An inquiry concerning this system should be directed to the System Manager listed above.

RECORD ACCESS PROCEDURES:

Major portions of this system are exempt from disclosure and contest by 5 U.S.C. 552a(j)(2). To the extent that this system of records is not subject to exemption, it is subject to access and contest. A determination as to the applicability of an exemption as to a specific record must be made at the time a request for access is received. A request for access to a record contained in this system must be made in writing, with the envelope and the letter clearly marked “Privacy Access Request.” Include in the request the System name, the name of the individual involved, the individual's birth date and place, or any other identifying number which may be of assistance in locating the record, the name of the case or matter involved, if known, the name of the judicial district involved, if known, and any other information which may be of assistance in locating the record. You will also provide a return address for transmitting the information. Access requests will be directed to the System Manager listed above. You must sign the request; and, to verify it, the signature must be notarized or submitted under 28 U.S.C. 1746, a law that permits statements to be made under penalty of perjury and dated as a substitute for notarization. You may submit any other identifying data you wish to furnish to assist in making a proper search of the system.

CONTESTING RECORD PROCEDURES:

A major part of the information maintained in this system is exempt from this requirement under 5 U.S.C. 552a(j)(2). Title 28 U.S.C. 7852(e) prohibits Privacy Act amendment of tax records. Individuals desiring to contest or amend information maintained in the system should direct their request to the System Manager listed above, stating clearly and concisely what information is being contested, the reasons for contesting it, and the proposed amendment to the information sought.

RECORD SOURCE CATEGORIES:

Internal Revenue Service, Department offices and employees, and other federal, state, local, and foreign law enforcement and non-law enforcement agencies, private persons, witnesses, and informants.

EXEMPTIONS CLAIMED FOR THE SYSTEM:

The Attorney General has exempted this system from subsection (c)(3), (c)(4), (d)(1), (d)(2), (d)(3), (d)(4), (e)(1), (e)(2), (e)(3), (e)(4)(G), (e)(4)(H), (e)(4)(I), (e)(5), (e)(8), (f) and (g) of the Privacy Act pursuant to 5 U.S.C. 552a(j)(2). Rules have been promulgated in accordance with the requirements of 5 U.S.C. 553(b), (c) and (e) and have been published in the Federal Register and are codified at 28 CFR 16.93(a) and (b).

JUSTICE/TAX-002

SYSTEM NAME:

Tax Division Civil Tax Case Files, Docket Cards, and Associated Records.

SECURITY CLASSIFICATION:

Not classified.

SYSTEM LOCATION:

U.S. Department of Justice; Tax Division; 950 Pennsylvania Avenue, NW., Washington, DC 20530.

CATEGORIES OF INDIVIDUALS COVERED BY THE SYSTEM:

Persons referred to in potential or actual civil tax cases and related matters under the jurisdiction or of concern to the Tax Division under Internal Revenue laws and related statutes.

CATEGORIES OF RECORDS IN THE SYSTEM:

Records in this system pertain to a broad variety of litigation under the jurisdiction of the Tax Division. They include case files which were created or received by the Tax Division in connection with a particular case. These case files contain all pleadings, motions, briefs, transcripts and exhibits, all other papers filed with a court or issued by the Court, correspondence relating to the case, tax returns, tax return information, and documents which contain tax return information, inter-agency memoranda, intra-agency memoranda, assignment sheets, investigative reports and associated records. For pre-1977 cases, summary information is maintained on docket cards on which is recorded the names of principals or related parties, case file or management numbers, case type, case weight, attorney assigned, court numbers, opposing counsel and associated information. For cases beginning in 1977, information is maintained in an automated case management system. This automated system also permits Tax Division personnel to record information about the case on a comment field. Also part of the automated case management system is a timekeeping function for attorneys, paralegals, and other Tax Division employees involved in litigation.

AUTHORITY FOR MAINTENANCE OF THE SYSTEM:

This system is established and maintained pursuant to 5 U.S.C. 301, 44 U.S.C. 3101, and 28 CFR 0.70 and 0.71.

PURPOSES:

Information is maintained in docket cards and in electronic format on each Tax Division (Division) civil case: (a) To identify and assign mail to the proper office within the Division and the attorneys therein assigned to the case; (b) to relate incoming material to an existing case; (c) to establish a file and case management numbers; and (d) to provide a central index of cases within the Division and to facilitate the flow of legal work in the Division. The Division's automated case management system enhances these uses and enables data management specialists, managers, and Division personnel: (a) To locate information about the status of pending or terminated civil matters and litigation; (b) to identify assigned staff; (c) to track the status of litigation; (d) to prepare reports including budget requests; and (e) to track the number of hours Division legal personnel worked on various matters.

ROUTINE USES OF RECORDS MAINTAINED IN THE SYSTEM, INCLUDING CATEGORIES OF USERS AND THE PURPOSES OF SUCH USES:

Tax returns and return information may be disclosed only as provided in 26 U.S.C. 6103.

Other records related to a case or matter maintained in this system of records may be disseminated as follows:

(1) Where a record, either on its face or in conjunction with other information, indicates a violation or potential violation of law—criminal, civil, or regulatory in nature—the relevant records may be referred to the appropriate federal, state, local, foreign, or tribal law enforcement authority or other appropriate agency charged with the responsibility of investigating or prosecuting such a violation or enforcing or implementing such law.

(2) In an appropriate proceeding before a court, or administrative or adjudicative body, when the Department of Justice determines that the records are arguably relevant to the proceeding; or in an appropriate proceeding before an administrative or adjudicative body when the adjudicator determines the records to be relevant to the proceeding.

(3) To an actual or potential party to litigation or the party's authorized representative for the purpose of negotiation or discussion of such matters as settlement or in informal discovery proceedings.

(4) To appropriate officials and employees of a federal agency or entity which requires information relevant to a decision concerning the hiring, appointment, or retention of an employee; the issuance, renewal, suspension, or revocation of a security clearance; the execution of a security or suitability investigation; the letting of a contract, or the issuance of a grant or benefit.

(5) To federal, state, local, tribal, foreign, or international licensing agencies or associations which require information concerning the suitability or eligibility of an individual for a license or permit.

(6) To the National Archives and Records Administration (NARA) for purposes of records management inspections conducted under the authority of 44 U.S.C. 2904 and 2906.

(7) To the news media and the public pursuant to 28 CFR 50.2 unless it is determined that release of the specific information in the context of a particular case would constitute an unwarranted invasion of personal privacy.

(8) To a Member of Congress or staff acting upon the Member's behalf when the Member or staff requests the information on behalf of, and at the request of, the individual who is the subject of the record.

(9) To contractors, grantees, experts, consultants, students, and others performing or working on a contract, service, grant, cooperative agreement, or other assignment for the Federal Government, when necessary to accomplish an agency function related to this system of records.

(10) The Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

(11) Information relating to health care fraud may be disclosed to private health plans, or associations of private health plans, and health insurers, or associations of health insurers, for the following purposes: To promote the coordination of efforts to prevent, detect, investigate, and prosecute health care fraud; to assist efforts by victims of health care fraud to obtain restitution; to enable private health plans to participate in local, regional, and national health care fraud task force activities; and to assist tribunals having jurisdiction over claims against private health plans.

(12) In the course of investigating the potential or actual violation of any law whether civil, criminal, or regulatory in nature, or during the course of a trial or hearing or the preparation for a trial or hearing for such violation, a record may be disseminated to a federal, state, local or foreign agency, or to an individual or organization if there is reason to believe that such agency, individual, or organization possesses information relating to the investigation, trial or hearing and the dissemination is reasonably necessary to elicit such information or to obtain the cooperation of a witness or an informant.

(13) A record relating to a case or matter that has been referred to the Tax Division may be disseminated to the referring agency to notify such agency of the status of the case or matter or of any decision or determination that has been made.

(14) In any health care-related civil or criminal case, investigation, or matter, information indicating patient harm, neglect, or abuse, or poor or inadequate quality of care, at a health care facility or by a health care provider, may be disclosed as a routine use to any federal, state, local, tribal, foreign, international or private entity that is responsible for regulating, licensing, registering, or accrediting any health care provider or health care facility, or enforcing any health care-related laws or regulations. Further, information indicating an ongoing problem by a health care provider or at a health care facility may be disclosed to the appropriate health plan. Additionally, unless otherwise prohibited by applicable law, information indicating patient harm, neglect, abuse or poor or inadequate quality of care may be disclosed to the affected patient or the patient's representative or guardian at the discretion of and in the manner determined by the agency in possession of the information.

(15) To representatives of the Internal Revenue Service (IRS) who are conducting tax records safeguard reviews pursuant to 26 U.S.C. 6103(p)(4).

(16) To the United States Department of State, to the extent necessary to assist in apprehending and/or returning a fugitive to a jurisdiction which seeks the fugitive's return.

(17) In the case of records relating to an individual who owes an overdue debt to the United States to: (a) A federal agency which employs the individual to enable the employing agency to offset the individual's salary; (b) A federal, state, local or foreign agency, an organization, including a consumer reporting agency, or individual to elicit information to assist the Division in the collection of the overdue debt; (c) a collection agency or private counsel to enable them to collect the overdue debt; and/or (d) the IRS to enable that agency to offset the individual's tax refund.

DISCLOSURE TO CONSUMER REPORTING AGENCIES:

Only as stated in above routine uses.

POLICIES AND PRACTICES FOR STORING, RETRIEVING, ACCESSING, RETAINING, AND DISPOSING OF RECORDS IN THE SYSTEM:

STORAGE:

Unless otherwise noted herein, all information is recorded on paper material. Paper materials are stored within file jackets and metal file cabinets; docket cards, within boxes or card drawers. Summary information, as described above, is maintained in electronic format and stored on data processing-type storage medium or on magnetic tape and docket cards.

RETRIEVABILITY:

Information is retrieved primarily by name of person, case or file numbers, attorney number, or court district.

SAFEGUARDS:

Information is safeguarded in accordance with 26 U.S.C. 6103(p) and the Tax Division is subject to periodic inspections by the IRS to ensure that adequate safeguards which satisfy the requirements of that Section are in place. Records are also safeguarded in accordance with DOJ rules and procedures. Buildings in which the records are located are under security guard, and access to premises is by official identification. The various sections in the Division have locked entry doors which may only be entered with an encrypted card key. Records are stored in spaces and filing cabinets which are locked outside normal business hours. Training is provided for new Division personnel regarding the need for confidentiality of records, particularly tax returns and return information. A password is required to access the automated case management system and passwords are changed every 90 days.

RETENTION AND DISPOSAL:

Tax records not retained are sent to the Internal Revenue Service. Records in closed files are sent to the Federal Records Center where they are destroyed after fifteen (15) years unless they are determined to have historical significance under the NARA criteria. Records of historical significance are retained permanently. Summary information in electronic format is retained permanently. Closed records designated permanent are retired at the Records Center, where they will remain until the statutory access restrictions of 26 U.S.C. 6103 are resolved.

SYSTEM MANAGER(S) AND ADDRESS:

Assistant Attorney General, Tax Division, U.S. Department of Justice, 950 Pennsylvania Avenue, NW., Washington, DC 20530.

NOTIFICATION PROCEDURE:

An inquiry concerning this system should be directed to the System Manager listed above.

RECORD ACCESS PROCEDURES:

To the extent that this system of records is not subject to exemption, it is subject to access and contest. A determination as to the applicability of an exemption to a specific record must be made at the time a request for access is received. A request for access to a record contained in this system must be made in writing, with the envelope and the letter clearly marked “Privacy Access Request”. Include in the request the System name, the name of the individual involved, the individual’s birth date and place, or any other identifying number which may be of assistance in locating the record, the name of the case or matter involved, if known, the name of the judicial district involved, if known, and any other information which may be of assistance in locating the record. You will also provide a return address for transmitting the information. Access requests will be directed to the System Manager listed above. You must sign the request; and, to verify it, the signature must be notarized or submitted under 28 U.S.C. 1746, a law that permits statements to be made under penalty of perjury and dated as a substitute for notarization. You may submit any other identifying data you wish to furnish to assist in making a proper search of the system.

CONTESTING RECORD PROCEDURES:

A major part of the information maintained in this system is exempt from this requirement under 5 U.S.C. 552a(k)(2). Title 28 U.S.C. 7852(e) prohibits Privacy Act amendment of tax records. Individuals desiring to contest or amend information maintained in the system should direct their request to the System Manager listed above, stating clearly and concisely what information is being contested, the reasons for contesting it, and the proposed amendment to the information sought.

RECORD SOURCE CATEGORIES:

Internal Revenue Service, Department offices and employees, and other federal, state, local, and foreign law enforcement and non-law enforcement agencies, private persons, witnesses, and informants.

EXEMPTIONS CLAIMED FOR THE SYSTEM:

The Attorney General has exempted this system from subsections (c)(3), (d)(1), (d)(2), (d)(3), and (d)(4), (e)(1), (e)(4)(G), (e)(4)(H), (e)(4)(I), and (f) of the Privacy Act pursuant to 5 U.S.C. 552a(k)(2). Rules have been promulgated in accordance with the requirements of 5 U.S.C. 553(b), (c), and (e) and have been published in the Federal Register and codified at 28 CFR 16.93(c) and (d).

JUSTICE/TAX—003

SECURITY CLASSIFICATION:

Not classified.

SYSTEM NAME:

Files of Applications for Attorney and Non-Attorney Positions with the Tax Division.

SYSTEM LOCATION:

U.S. Department of Justice; Tax Division; 950 Pennsylvania Avenue, NW., Washington, DC 20530.

CATEGORIES OF INDIVIDUALS COVERED BY THE SYSTEM:

Applicants who have applied for a position as an attorney or for non-attorney positions with the Tax Division.

CATEGORIES OF RECORDS IN THE SYSTEM:

The records in this system include resumes, employment applications, referral correspondence, grade transcripts, letters of recommendation, interview notes, internal notes, memoranda and evaluations, and related personnel forms and correspondence. Some information is maintained in electronic format. Summary information (names of applicants, social security numbers, dates documents received, type of documents received, where interviewed, personal data, dispositions, and type of response sent) is maintained in an electronic database.

AUTHORITY FOR MAINTENANCE OF THE SYSTEM:

This system is established and maintained pursuant to 5 U.S.C. 301, 44 U.S.C. 3101, and 28 CFR 0.70 and 0.71.

PURPOSE:

This system is used by employees and officials of the Division and the Justice Department in making employment decisions including making information known to references supplied by applicant and other persons contacted to verify information supplied or to obtain additional information.

ROUTINE USES OF RECORDS MAINTAINED IN THE SYSTEM, INCLUDING CATEGORIES OF USERS AND THE PURPOSES OF SUCH USES:

Records related to a case or matter maintained in this system of records may be disseminated as follows:

(1) To appropriate officials and employees of a federal agency or entity which requires information relevant to a decision concerning the hiring, appointment, or retention of an employee; the issuance, renewal, suspension, or revocation of a security clearance; the execution of a security or suitability investigation; the letting of a contract, or the issuance of a grant or benefit.

(2) To the National Archives and Records Administration (NARA) for purposes of records management inspections conducted under the authority of 44 U.S.C. 2904 and 2906.

(3) To the news media and the public pursuant to 28 CFR 50.2 unless it is determined that release of the specific information in the context of a particular case would constitute an unwarranted invasion of personal privacy.

(4) To a Member of Congress or staff acting upon the Member's behalf when the Member or staff requests the information on behalf of, and at the request of, the individual who is the subject of the record.

(5) Where a record, either on its face or in conjunction with other information, indicates a violation or potential violation of law—criminal, civil, or regulatory in nature—the relevant records may be referred to the appropriate federal, state, local, foreign, or tribal, law enforcement authority or other appropriate agency charged with the responsibility of investigating or prosecuting such a violation or enforcing or implementing such law.

(6) To federal, state, local, tribal, foreign, or international licensing agencies or associations which require information concerning the suitability or eligibility of an individual for a license or permit.

(7) In an appropriate proceeding before a court, or administrative or adjudicative body, when the Department of Justice determines that the records are arguably relevant to the proceeding; or in an appropriate proceeding before an administrative or adjudicative body when the adjudicator determines the records to be relevant to the proceeding.

(8) To contractors, grantees, experts, consultants, students, and others performing or working on a contract, service, grant, cooperative agreement, or other assignment for the Federal Government, when necessary to accomplish an agency function related to this system of records.

(9) The Department of Justice may disclose relevant and necessary information to a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

(10) Information may be disclosed to the Office of Personnel Management which conducts audits of these records.

DISCLOSURE TO CONSUMER REPORTING AGENCIES:

Not applicable.

POLICIES AND PRACTICES FOR STORING, RETRIEVING, ACCESSING, RETAINING, AND DISPOSING OF RECORDS IN THE SYSTEM:

STORAGE:

Unless otherwise noted herein, all information is recorded on paper material. Paper materials are stored within file jackets and metal file cabinets. Summary information, as described above, is maintained in electronic format and stored on data processing-type storage medium or on magnetic tape.

RETRIEVABILITY:

Information is retrieved by using the name of the applicant.

SAFEGUARDS:

Records are safeguarded in accordance with Department of Justice rules and procedures. Buildings in which the records are located are under security guard, and access to premises is by official identification. The Personnel Office in the Division is in a space which has locked key entry doors which may only be entered with an encrypted card key. A password is required to access an electronic database and passwords are changed every 90 days.

RETENTION AND DISPOSAL:

Information in the applicant files is retained until after a decision is made as to the employment of the applicant, usually for one year and, for some files, up to two years after the decision. Summary information in electronic format is retained permanently. Closed records designated permanent are retired at the Records Center, where they will remain until the statutory access restrictions of 26 U.S.C. 6103 are resolved.

SYSTEM MANAGER(S) AND ADDRESS:

Assistant Attorney General; Tax Division; U.S. Department of Justice; 950 Pennsylvania Avenue, NW., Washington, DC 20530.

NOTIFICATION PROCEDURE:

An inquiry concerning this system should be directed to the System Manager listed above.

RECORD ACCESS PROCEDURES:

A request for access to a record contained in this system must be made in writing, with the envelope and the letter clearly marked “Privacy Access Request”. Include in the request the name of the individual involved, the individual’s birth date and place, or any other identifying number which may be of assistance in locating the record, as well as the position applied for. The requester will also provide a return address for transmitting the information. Access requests will be directed to the System Manager listed above. Some information may be exempt from access provisions as described in the section entitled “Exemptions Claimed for the System.” A determination whether a record may be accessed will be made at the time a request is received.

CONTESTING RECORD PROCEDURES:

Individuals desiring to contest or amend information maintained in the system should direct their request to the System Manager listed above, stating clearly and concisely which information is being contested, the reasons for contesting it, and the proposed amendment to the information sought. Some information may be exempt from contesting records, records procedures, or both, as described in the section entitled “Exemptions Claimed for the System.” A determination whether a record, a record procedure(s), or both, may be contested will be made at the time a request is received.

RECORD SOURCE CATEGORIES:

Generally, sources of information contained in the system are the individual applicants, persons referring or recommending the applicant, and employees and officials of the Division and the Department.

EXEMPTIONS CLAIMED FOR THE SYSTEM:

The Attorney General proposes to exempt this system from subsections (c)(3), (d)(1), and (e)(1) pursuant to 5 U.S.C. 552a (k)(2) and (k)(5). In accordance with the requirements of 5 U.S.C. 553(b), (c), and (e), the Proposed Rule claiming these exemptions is published in today's Federal Register.

[FR Doc. 05-22639 Filed 11-15-05; 8:45 am]

BILLING CODE 4410-16-P